FEDERAL COMMUNICATIONS COMMISSION

47 CFR Part 73

[DA 05-2516; MB Docket No. 05-267; RM-10365]

Radio Broadcasting Services; St. Simons Island, GA

AGENCY: Federal Communications Commission.

ACTION: Proposed rule.

SUMMARY: This document requests comments on a Petition for Rule Making filed by Nancy C. Harper requesting the allotment of Channel 229C3 at St. Simons Island, Georgia, and a mutually exclusive Petition for Rule Making filed by Murphy Broadcasting requesting the allotment of Channel 229A to St. Simons Island. Either allotment would provide that community with its second local aural transmission service. To accommodate Harper's requested allotment of Channel 229C3, Harper requests the reclassification of FM Station WOGK, Channel 229C, Ocala, Florida, to specify operation on Channel 229C0 pursuant to the reclassification procedures adopted by the Commission. See 1998 Biennial Regulatory Review—Streamlining of Radio Technical Rules in Parts 73 and 74 of the Commission's Rules, 65 FR 79773 (December 20, 2000). In response to an Order to Show Cause why Station WOGK should not be downgraded from Channel 229C to 229C0, the licensee of FM Station WOGK stated that it would file an acceptable application meeting minimum Class C FM standards within the period required by our rules. Since the licensee filed an application that was deficient, and since the deficient application filed has been dismissed for failure to prosecute the application, the Commission proposes to reclassify Station WOGK to Class C0. Channel 229C3 can be allotted with a site restriction 16.4 kilometers (10.2 miles) northwest of St. Simons Island, at reference coordinates 31-14-54 NL and 81-29-57 WL. To accommodate the proposed allotment, the Commission proposes the reclassification of FM Station WOGK to specify operation on Channel 229C0. Channel 229A can be allotted to St. Simons Island at reference coordinates of 31-09-01 NL and 81-22-11 WL, if FM Station WOGK is reclassified to specify operation on Channel 229C0.

DATES: Comments must be filed on or before November 18, 2005, and reply comments on or before December 5, 2005. Any counterproposal filed in this proceeding need only protect FM Station WOGK, Ocala, Florida, as a Class C0 allotment.

ADDRESSES: Federal Communications Commission, 445 Twelfth Street, SW., Washington, DC 20554. In addition to filing comments with the FCC, interested parties should serve the petitioners as follows: Nancy C. Harper, 490 Wright Road; Tignall, Georgia 30668; and Scott C. Cinnamon, Law Offices of Scott C. Cinnamon, PLLC; 1090 Vermont Ave, NW., Suite 800, #144; Washington, DC 20005 (Counsel for Murphy Broadcasting).

FOR FURTHER INFORMATION CONTACT: R. Barthen Gorman, Media Bureau, (202) 418-2180.

SUPPLEMENTARY INFORMATION: This is a synopsis of the Commission's Notice of Proposed Rule Making, MB Docket No. 05-267, adopted September 23, 2005, and released September 27, 2005. The complete text of this decision may also be purchased from the Commission's duplicating contractor, Best Copy and Printing, Inc., 445 12th Street, SW., Room CY-B402, Washington, DC, 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Florida, is amended by removing Channel 229C and by adding Channel 229C0 at Ocala.

3. Section 73.202(b), the Table of FM Allotments under Georgia, is amended by adding Channel 229C3 or Channel 229A at St. Simons Island.

Federal Communications Commission.
John A. Karousos,
Assistant Chief, Audio Division, Media Bureau.

[FR Doc. 05-20211 Filed 10-11-05; 8:45 am]

BILLING CODE 6712-01-P